DEPARTMENT OF DEFENSE

Office of the Secretary

Membership of the Defense Contract Audit Agency Senior Executive Service Performance Review Boards

AGENCY: Defense Contract Audit Agency, DoD.

ACTION: Notice.

SUMMARY: This notice announces the appointment of members to the Defense Contract Audit Agency (DCAA) Performance Review Boards. The Performance Review Boards provide fair and impartial review of Senior Executive Service (SES) performance appraisals and make recommendations to the Director, DCAA, regarding final performance ratings and performance awards for DCAA SES members.

DATES: Effective September 22, 2009.

FOR FURTHER INFORMATION CONTACT: Sandra L. Burrell, Chief, Human Resources Management Division, Defense Contract Audit Agency, 8725 John J. Kingman Road, Suite 2133, Fort Belvoir, Virginia 22060-6219, (703) 767-1039.

SUPPLEMENTARY INFORMATION: In accordance with 5 U.S.C. 4314(c)(4), the following are the names and titles of DCAA career executives appointed to serve as members of the DCAA Performance Review Boards. Appointees will serve one-year terms, effective upon publication of this notice.

Headquarters Performance Review Board

Ms. Karen Cash, Assistant Director, Operations, DCAA, Chairperson.

Mr. Kenneth Saccoccia, Assistant Director, Policy and Plans, DCAA, member.

Mr. Thomas Peters, Director, Field Detachment, DCAA, member.

Regional Performance Review Board

Mr. David Eck, Regional Director, Mid-Atlantic Region, DCAA, chairperson.

Mr. Paul Phillips, Regional Director, Eastern Region, DCAA, member.

Mr. Ronald Meldonian, Regional Director, Northeastern Region, DCAA, member.

Dated: September 15, 2009.
Patricia L. Toppings,
OSD Federal Register Liaison Officer, Department of Defense.

[FR Doc. E9-22792 Filed 9-21-09; 8:45 am]

BILLING CODE 5001-06-P